ENVIRONMENTAL PROTECTION AGENCY

[EPA-R09-OAR-2013-0762; FRL-9903-85-Region-9]

Adequacy Status of Motor Vehicle Emissions Budget in Submitted State Implementation Plan; Maricopa County PM-10 Nonattainment Area, Arizona

AGENCY: Environmental Protection Agency (EPA).

ACTION: Notice of adequacy.

SUMMARY: In this notice, EPA is notifying the public that the Agency has found that the motor vehicle emissions budget (MVEB) for particulate matter less than ten microns (PM-10) for the year 2012 in the Five Percent Plan for PM-10 for the Maricopa County Nonattainment Area (May 2012) (“Five Percent Plan”) is adequate for transportation conformity purposes. The Five Percent Plan for PM-10 in the Maricopa County Nonattainment Area was submitted to EPA on May 25, 2012 by the Arizona Department of Environmental Quality (ADEQ) as a revision to the Arizona State Implementation Plan (SIP). As a result of our adequacy findings, the Maricopa Association of Governments (MAG) and the U.S. Department of Transportation must use the MVEB for future conformity determinations.

DATES: Effective December 20, 2013.

FOR FURTHER INFORMATION CONTACT: Greg Nudd, U.S. EPA, Region IX, Air Division AIR-2, 75 Hawthorne Street, San Francisco, CA 94105-3901, (415) 947-4107 or nudd.gregory@epa.gov.

SUPPLEMENTARY INFORMATION: Throughout this document, whenever “we,” “us,” or “our” is used, we mean EPA.

Today's notice announces that we have found that the MVEB in the submitted Five Percent Plan for PM-10 in the Maricopa County Nonattainment Area for the year 2012 is adequate. The adequate MVEB is 54.9 metric tons per day of PM-10. More information regarding our finding can be found in our letter to MAG and ADEQ dated November 22, 2013.

Receipt of the MVEB in Five Percent Plan for PM-10 for the Maricopa County Nonattainment Area was announced on EPA's transportation conformity Web site on September 12, 2013. We received no comments in response to the adequacy review posting. The adequacy finding is available at EPA's transportation conformity Web site: http://www.epa.gov/otaq/stateresources/transconf/adequacy.htm.

Transportation conformity is required by Clean Air Act section 176(c). EPA's conformity rule requires that transportation plans, transportation improvement programs, and transportation projects conform to SIPs and establishes the criteria and procedures for determining whether or not they do conform. Conformity to a SIP means that transportation activities will not produce new air quality violations, worsen existing violations, or delay timely attainment of the national ambient air quality standards.

The criteria by which we determine whether a SIP's MVEB is adequate for conformity purposes are outlined in 40 CFR 93.118(e)(4), which was promulgated in a final rule published on August 15, 1997 (62 FR 43780, 43781-43783). We have further described our process for determining the adequacy of submitted SIP budgets in a final rule published on July 1, 2004 (69 FR 40004, 40038), and we used the information in these resources in making our adequacy determination. Please note that an adequacy review is separate from EPA's review of the SIP, and should not be used to predict EPA's action for the SIP.

Authority: 42 U.S.C. 7401 et seq.

Dated: November 26, 2013.
Jared Blumenfeld,
Regional Administrator, Region IX.

[FR Doc. 2013-29090 Filed 12-4-13; 8:45 am]

BILLING CODE 6560-50-P